DEPARTMENT OF COMMERCE

National Oceanic and Atmospheric Administration

[I.D. 092303C]

Notice of Change to Regional Fisheries Management Meetings

AGENCY: National Marine Fisheries Service (NMFS), National Oceanic and Atmospheric Administration (NOAA), Commerce.

ACTION: Notice of change of public meeting.

SUMMARY: Due to concern regarding the path of Hurricane Isabel, NMFS cancelled the September 18, 2003, South Atlantic constituent session in Pawleys Island, S.C. The rescheduled constituent session will be in Charleston, S.C. on October 7, 2003. This is part of a series of regional constituent sessions that started in June and are running through October to gather public input on ways to improve the effectiveness of NMFS and its management of living marine resources. The regional sessions are a collaborative effort involving all major marine fisheries interests. The primary objective is to assemble and provide a comprehensive analysis of the diverse opinions, attitudes, and perspectives of marine resource stakeholders as they relate to broad themes in fisheries management. The secondary objective is to identify performance measures.

DATES: The South Atlantic constituent session will be held October 7, 2003, from 5 p.m. - 6 p.m. and 6:30 p.m. - 8 p.m. To submit comments, see FOR FURTHER INFORMATION CONTACT.

ADDRESSES: The session will be held at the Town and Country Inn, 2008 Savannah Highway, Charleston, SC 29407. Telephone: 843-571-1000. Information on the meetings will be updated periodically on NMFS' web page: http://www.nmfs.noaa.gov/emeetings.

FOR FURTHER INFORMATION CONTACT: Gordon Helm, NMFS, telephone: 301-713-2370; email: gordon.helm@noaa.gov. To submit e-Comments (see E-Comments Pilot Program).

SUPPLEMENTARY INFORMATION: On May 15, 2003 (68 FR 26291), NMFS published in the Federal Register notice of regional constituent sessions. The session previously scheduled for September 18, 2003, in Pawleys Island, S.C. is now scheduled for October 7, 2003, in Charleston, S.C. The schedule for the other constituent sessions remains unchanged.

E-comments Pilot Program

NMFS encourages the public to participate in submitting comments by the e-comment program. To this end, NMFS is accepting comments by submitted mail, fax, and the Internet as part of its e-Comments pilot project. The e-Comments pilot project is designed to introduce electronic commenting to its constituents. You can respond to the questions on the e-comment page through NMFS' web page http://www.nmfs.noaa.gov/emeetings. The public is encouraged to use the new web site to compose and submit comments on the regional constituent meetings. In submitting comments, please include your name, address, and region for each comment. NMFS also invites public comments on the e-Comments program that allows you to submit your comments on line. Please submit your comments by only one means. Comments received from the public will become part of the public record and will be posted on the e-Comments web site http://www.nmfs.noaa.gov/emeetings.

Areas NMFS is soliciting public comments on:

(1) What is the most important issue facing fisheries in your region?

(2) Who has responsibility over this issue? If unclear, or uncertain, who should be in charge?

(3) Identify and describe a possible solution or solutions that would remedy the issue?

(4) Does the solution require (a)no changes to the present administrative or statutory structure, or (b)administrative changes, and if so, what changes would you propose, or (c) statutory changes, and if so, what would they be?

(5) How could one measure whether the solution is being properly implemented and working?

(6) Briefly describe the best way to keep you informed about changes within NMFS and fisheries management.

Special Accommodations

These meetings are physically accessible to people with disabilities. Requests for sign language interpretation or other auxiliary aids should be directed to Gordon Helm (see FOR FURTHER INFORMATION CONTACT) 2 weeks before each meeting.

Dated: September 23, 2003.
John Oliver,
Deputy Assistant Administrator for Operations, National Marine Fisheries Service.

[FR Doc. 03-24566 Filed 9-26-03; 8:45 am]

BILLING CODE 3510-22-S